DEPARTMENT OF TRANSPORTATION

Federal Aviation Administration

14 CFR Part 71

[Docket FAA No. FAA-2012-1253; Airspace Docket No. 12-AWP-10]

Amendment of Class D and Class E Airspace; Twentynine Palms, CA

AGENCY: Federal Aviation Administration (FAA), DOT.

ACTION: Final rule; technical amendment.

SUMMARY: This action amends Class D and Class E airspace at Twentynine Palms SELF Airport, Twentynine Palms, CA. This action changes the airport name formerly called Twentynine Palms Expeditionary Air Field (EAF), Marine Corps Base. This action also adjusts the geographic coordinates of the airport to enhance the safety and management of aircraft operations at Twentynine Palms SELF Airport, Twentynine Palms, CA. This action does not change the boundaries of the airspace.

DATES: Effective date, 0901 UTC, March 7, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

The FAA's Aeronautical Products Office requested the change to the airport name and geographic coordinates of Twentynine Palms SELF Airport, Twentynine Palms, CA.

The Class D airspace and Class E airspace designations are published in paragraphs 5000 and 6004, respectively, of FAA Order 7400.9W, dated August 8, 2012, and effective September 15, 2012, which is incorporated by reference in 14 CFR 71.1. The Class D airspace and Class E airspace designation listed in this document will be published subsequently in the Order.

The Rule

The FAA amends Title 14 Code of Federal Regulations (14 CFR) Part 71 by changing the airport name described in Class D airspace and Class E airspace designated as an extension to Class D surface area at Twentynine Palms, CA, to Twentynine Palms SELF Airport, formerly Twentynine Palms Expeditionary Air Field (EAF), Marine Corps Base. The geographic coordinates of the airport are also adjusted to be in accordance with the FAA's aeronautical database. Accordingly, since this is an administrative change and does not involve a change in the dimensions or operation requirements of that airspace, notice and public procedures under 5 U.S.C. 553(b) are unnecessary.

The FAA has determined this regulation only involves an established body of technical regulations for which frequent and routine amendments are necessary to keep them operationally current. Therefore, this regulation; (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act.

The FAA's authority to issue rules regarding aviation safety is found in Title 49 of the U.S. Code. Subtitle 1, Section 106, describes the authority for the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends controlled airspace at Twentynine Palms SELF Airport, Twentynine Palms, CA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, and effective September 15, 2012, is amended as follows:

Paragraph 5000 Class D airspace.

* * * * *

AWP CA D Twentynine Palms, CA [Amended]

Twentynine Palms SELF Airport, CA

(Lat. 34°17′46″ N., long. 116°09′44″ W.)

That airspace extending upward from the surface to and including 4,600 feet MSL within a 4.3-mile radius of the Twentynine Palms SELF Airport. This Class D airspace area is effective during the specific dates and times established in advance by a Notice to Airmen. The effective date and time will thereafter be continuously published in the Airport/Facility Directory.

Paragraph 6004 Class E airspace designated as an extension to a Class D surface area.

* * * * *

AWP CA E4 Twentynine Palms, CA [Amended]

Twentynine Palms SELF Airport, CA

(Lat. 34°17′46″ N., long. 116°09′44″ W.)

Twentynine Palms VORTAC

(Lat. 34°06′44″ N., long. 115°46′12″ W.)

That airspace extending upward from the surface within 1.8 miles each side of the Twentynine Palms VORTAC 298° radial extending from the 4.3-mile radius of Twentynine Palms SELF Airport to 13.9 miles west of the VORTAC. This Class E airspace area is effective during the specific dates and times established in advance by a Notice to Airmen. The effective date and time will thereafter be continuously published in the Airport/Facility Directory.

Issued in Seattle, Washington, on December 19, 2012.
Clark Desing,
Manager, Operations Support Group, Western Service Center.

[FR Doc. 2013-01071 Filed 1-18-13; 8:45 am]

BILLING CODE 4910-13-P